DEPARTMENT OF HOMELAND SECURITY

Coast Guard

33 CFR Part 117

[CGD01-03-009]

RIN 2115-AE47

Drawbridge Operation Regulations; Passaic River, NJ

AGENCY: Coast Guard, DHS.

ACTION: Notice of temporary deviation from regulations.

SUMMARY: The Commander, First Coast Guard District, has issued a temporary deviation from the drawbridge operation regulations that govern the Routes 1 & 9 (Lincoln Highway) Bridge, at mile 1.8, across the Passaic River at Newark, New Jersey. This temporary deviation will allow the bridge to remain in the closed position from March 12, 2003 through April 2, 2003 and from April 12, 2003 through May 10, 2003. This action is necessary to facilitate maintenance at the bridge.

DATES: This deviation is effective from March 12, 2003 through May 10, 2003.

FOR FURTHER INFORMATION CONTACT: Mr. Jose Arca, Project Officer, First Coast Guard District, (212) 668-7165.

SUPPLEMENTARY INFORMATION:

Regulatory Information

The Route 1 & 9 (Lincoln Highway) Bridge has a vertical clearance of 40 feet at mean high water and 45 feet at mean low water. The existing regulations listed at 33 CFR § 117.739(b), require the draw to open on signal after at least a four-hour advance notice is given.

The bridge owner, the New Jersey Department of Transportation, requested a temporary deviation from the drawbridge operation regulations to facilitate scheduled maintenance, the replacement of the counterweight cables and the machining of the trunions and journals, at the bridge.

Under this temporary deviation the bridge may remain in the closed position from 7 a.m. on March 12, 2003 through midnight on April 2, 2003, and from 7 a.m. on April 12, 2003 through midnight on May 10, 2003.

The bridge normally has few requests to open. The Coast Guard coordinated the deviation closure schedule with the only known waterway user. No objections were received.

This deviation from the drawbridge operating regulations is authorized under 33 CFR § 117.35, and will be performed with all due speed in order to return the bridge to normal operation as soon as possible.

Dated: February 21, 2003.
Vivien S. Crea,
Rear Admiral, Coast Guard, Commander, First Coast Guard District.

[FR Doc. 03-6635 Filed 3-18-03; 8:45 am]

BILLING CODE 4910-15-P